DEPARTMENT OF ENERGY

Federal Energy Regulatory Commission

[Docket No.CP05-418-000]

Tennessee Gas Pipeline Company; Notice of Application

September 28, 2005.

Take notice that Tennessee Gas Pipeline Company (Tennessee), 1001 Louisiana, Houston, Texas 77002, filed in Docket No. CP05-418-000 on September 15, 2005, an application pursuant to sections 7(b) and (c) of the Natural Gas Act (NGA), 15 U.S.C. 717f(b) and section 717f(c), as amended, and the Regulations of the Federal Energy Regulatory Commission (Commission), 18 CFR 157.5 requesting that the Commission issue an Order authorizing Tennessee to: (i) Acquire by termination and assignment the South Pass 77 capacity entitlements held by Dynegy Marketing and Trade, as derived from the respective ownership interests of Tennessee and Columbia Gulf Transmission Corporation in the South Pass 77 System; and (ii) abandon an associated downstream transportation service performed under Tennessee Rate Schedule T-124. This filing may be also viewed on the Web at http://www.ferc.gov using the “eLibrary” link. Enter the docket number excluding the last three digits in the docket number field to access the document. For assistance, call (202) 502-8659 or TTY, (202) 208-3676.

Any questions regarding this application should be directed to Kevin P. Erwin, Tennessee Gas Pipeline Company, 1001 Louisiana, Houston, Texas 77002, at (713) 420-1212 or fax (713) 420-1601.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 6, 2005.

Magalie R. Salas,
Secretary.

[FR Doc. E5-5512 Filed 10-5-05; 8:45 am]

BILLING CODE 6717-01-P